DEPARTMENT OF TRANSPORTATION

Federal Aviation Administration

[Docket No. 2020-0420]

Agency Information Collection Activities: Requests for Comments; Clearance of Renewed Approval of Information Collection: National Flight Data Center Web Portal

AGENCY: Federal Aviation Administration (FAA), Transportation (DOT).

ACTION: Notice and request for comments.

SUMMARY: In accordance with the Paperwork Reduction Act of 1995, FAA invites public comments about our intention to request the Office of Management and Budget (OMB) approval to renew an information collection. The Federal Register Notice with a 60-day comment period soliciting comments on the following collection of information was published on April 27, 2020. The collection involves aeronautical information detailing the physical description and operational status of all components of the National Airspace System (NAS). The information to be collected will be used to update government, military, and private aeronautical databases, charts, publications, and flight management systems.

DATES: Written comments should be submitted by August 6, 2020.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: John Graybill by email at: John.Graybill@faa.gov; phone: 202-267-3742.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0754.

Title: National Flight Data Center Web Portal.

Form Numbers: AD1-ADCP, AD3-ACC.

Type of Review: Renewal of an information collection.

Background: The Federal Register Notice with a 60-day comment period soliciting comments on the following collection of information was published on April 27, 2020 (2020-08836). 49 U.S.C. 40103, “Sovereignty and Use of Airspace,” authorizes and directs the FAA to develop plans and policy for the use of the navigable airspace. The National Flight Data Center (NFDC) is the authoritative government source for collecting, validating, storing, maintaining, and disseminating aeronautical data concerning the United States and its territories to support real-time aviation activities. The information collected ensures the safe and efficient navigation of the national airspace. The information collected is maintained in the National Airspace System Resources (NASR) database which serves as the official repository for NAS data and is provided to government, military, and private producers of aeronautical charts, publications, and flight management systems. Information will be collected via digital forms.

Respondents: Approximately 5,092 representatives of U.S. public airports. Average of 6,709 responses annually.

Frequency: Information to be collected on occasion.

Estimated Average Burden per Response: 20 minutes.

Estimated Total Annual Burden: 2,236 hours.

Issued in Washington, DC, on July 1, 2020.
John L. Graybill,
Aeronautical Information Specialist, Data Systems Team, Aeronautical Information Services, AJV-A35.

[FR Doc. 2020-14542 Filed 7-6-20; 8:45 am]

BILLING CODE 4910-13-P